DEPARTMENT OF VETERANS AFFAIRS

[OMB Control No. 2900-0342]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to ensure that an individual meets the statutory requirements to enter an on the job training program.

DATES: Written comments and recommendations on the proposed collection of information should be received on or before May 7, 2001.

ADDRESSES: Submit written comments on the collection of information to Nancy J. Kessinger, Veterans Benefits Administration (20S52), Department of Veterans Affairs, 810 Vermont Avenue, NW., Washington, DC 20420 or e-mail comments to: nancy.kessinger@mail.va.gov. Please refer to “OMB Control No. 2900-0342” in any correspondence.

FOR FURTHER INFORMATION CONTACT: Nancy J. Kessinger at (202) 273-7079 or fax (202) 275-5947.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles:

a. Other On-The-Job Training And Apprenticeship Training Agreement And Standards, VA Form 22-8864.

b. Employer's Application To Provide Job Training, VA Form 22-8865.

OMB Control Number: 2900-0342.

Type of Review: Extension of a currently approved collection.

Abstract: VA uses the information on VA Form 22-8864 to ensure that a trainee is entering an approved training program. VA Form 22-8865 is used to ensure that training programs and agreements meet statutory requirements for approval of an employer's job training program.

Affected Public: Business or other for-profit, Not-for-profit institutions, Farms, Federal Government, State, Local or Tribal Government.

Estimated Annual Burden: 450 hours.

a. Other On-The-Job Training And Apprenticeship Training Agreement And Standards, VA Form 22-8864—225 hours.

b. Employer's Application To Provide Job Training, VA Form 22-8865—225 hours.

Estimated Average Burden Per Respondent:

a. Other On-The-Job Training And Apprenticeship Training Agreement And Standards, VA Form 22-8864—30 minutes.

b. Employer's Application To Provide Job Training, VA Form 22-8865—90 minutes.

Frequency of Response: On occasion.

Estimated Number of Respondents: 600.

a. Other On-The-Job Training And Apprenticeship Training Agreement And Standards, VA Form 22-8864—450 Respondents.

b. Employer's Application To Provide Job Training, VA Form 22-8865—150 Respondents.

Dated: February 27, 2001.
By direction of the Secretary.
Donald L. Neilson,
Director, Information Management Service.

[FR Doc. 01-5651 Filed 3-7-01; 8:45 am]

BILLING CODE 8320-01-P